DEPARTMENT OF AGRICULTURE

Federal Crop Insurance Corporation

Request for Applications (RFA): Risk Management Research Partnerships

AGENCY: Federal Crop Insurance Corporation, USDA.

ACTION: Announcement of availability of funds and request for application for risk management research partnerships.

SUMMARY: In accordance with section 522(d) of the Federal Crop Insurance Act (Act), the Federal Crop Insurance Corporation (FCIC) announces the availability of approximately $4 million for partnership agreements that will fund risk management research activities. Priority will be given to those activities addressing the need for risk management tools for producers of agricultural commodities currently covered by section 196 of the Agricultural Market Transition Act (7 U.S.C. 7333), specialty crops, livestock, rangeland and underserved commodities (For purposes of this announcement, these commodities are collectively referred to as “Priority Commodities”). Applications requesting funding for the specific development or modification of insurance products, plans of insurance or policies are excluded from consideration under this announcement. Awards under this program will be made on a competitive basis for projects of up to three years. Recipients of awards must demonstrate non-financial benefits from a partnership agreement and must agree to substantial involvement of RMA in the project. This announcement lists the information needed to submit an application for these funds.

Closing Date: The closing date and time for receipt of an application is 5 p.m. CDT on July 28, 2003. Applications received after the deadline will not be evaluated by the technical review panel.

FOR FURTHER INFORMATION CONTACT: Applicants may download an application package from the Risk Management Agency Web site at http://www.rma.usda.gov. Applicants may also request an application package from: USDA, RMA/ RED, 6501 Beacon Drive, Stop 0813, Kansas City, Missouri 64133-4676, phone: (816) 926-6343, fax: (816) 926-7343, e-mail: RMARED.Application@rma.usda.gov.

Applicants are encouraged to submit completed and signed application packages using overnight mail or delivery service to ensure timely receipt by the USDA. The applicable address for such submissions is: RMA/RED Partnership Agreement Program, USDA, RMA/RED, 6501 Beacon Drive, Stop 0813, Kansas City, Missouri 64133-4676. Completed and signed application packages sent via the U.S. Postal Service must be sent to the same address. Applicants using the U.S. Postal Service should allow for extra security-processing time for mail delivered to government offices.

Paperwork Reduction Act

Under the provisions of the Paperwork Reduction Act of 1995, as amended (44 U.S.C. chapter 25), the collection of information requirements contained in this announcement have been approved under OMB Document Nos. 0348-0043, 0348-0044, 0348-0046, and 0348-0040.

The Catalog of Federal Domestic Assistance Number for this program is 10.450.

SUPPLEMENTARY INFORMATION: This announcement consists of six parts:

Part I—General Information

A. Legislative Authority

B. Background

C. Project Objectives

D. Purpose

E. Definition of Priority Commodities

Part II—Eligibility/Funding

A. Eligible Applicants

B. Non-financial Benefits

C. Project Period

D. Availability of Funds

Part III—Research Program Description

A. Recipient Activities

B. RMA Activities

C. Other Activities

Part IV—Preparation of an Application

A. Research Program Application Materials

B. Content of Applications

C. Submission of Applications

D. Acknowledgement of Applications

Part V—Review Process

A. General

B. Evaluation Criteria and Weights

C. Confidentiality

Part VI—Additional Information

A. Access to Panel Review Information

B. Notification of Partnership Agreement Awards

C. Confidential Aspects of Proposals and Awards

D. Reporting Documents

E. Audit Requirements

F. Prohibitions and Requirements with Regard to Lobbying

G. Applicable OMB Circulars

Part I—General Information

A. Legislative Authority

This program is authorized under section 522(d) of the Federal Crop Insurance Act (Act).

B. Background

RMA is committed to meeting the risk management needs and improving or developing risk management tools for the nation's farmers and ranchers. It does this by offering Federal crop insurance and other risk management products and tools through a network of private-sector entities and by overseeing the creation of new products, seeking enhancements in existing products and by expanding the use of a variety of risk management tools. Risk management tools are not limited to insurance products. Risk management tools include a variety of risk management options and strategies developed to assist producers in mitigating the risks inherent in agricultural production. Risk management tools may include: Financial management tools to mitigate price and production risks; tools to enhance measurement and prediction of risks in order to facilitate risk diversification; tools to improve production management, harvesting, record keeping or marketing. For the purposes of this announcement, risk management tools do not include insurance products, plans of insurance, policies, modifications thereof or any related material.

Section 552(b) of the Act authorizes RMA to enter into partnerships with public and private organizations for the purpose of increasing the availability of loss mitigation, financial, and other risk management tools for producers with a priority given to risk management tools for producers of Priority Commodities as defined in part I.E.

C. Project Objectives

RMA is only seeking applications that meet the following objectives:

1. To develop risk management tools to assist livestock producers in improving techniques for one or more of the following: Planning and managing the production of livestock, including disease management and control; improving techniques for breeding of livestock; managing price, revenue, or production and market risks.

2. To develop risk management tools to assist forage and rangeland producers in improving techniques for one or more of the following: Managing production, e.g., optimization of grazing patterns; establishing and maintaining forage production records; drought mitigation; harvesting or marketing production.

3. To develop risk management tools to assist organic producers in improving techniques for one or more of the following: Assessing market risks, including price; marketing of production; and comparing organic and conventional production risks.

4. To clarify labor requirements and assist producers in complying with requirements to better meet the physically intense and time-compressed planting, tending, and harvesting requirements associated with the production of specialty crops and underserved agricultural commodities.

5. To develop risk management tools to assist producers in reducing the impact of multiple-year losses.

6. To develop risk management tools to further increase the economic and production stability of wild salmon fishermen.

D. Purpose

The purpose of this program is to fund partnership agreements that assist producers, minimize their production risks, and improve and/or develop risk management tools for the nation's producers. The agreements are for the development of risk management tools for use directly by agricultural producers. To aid in meeting these goals each partnership agreement awarded through this program will provide the recipient with funds, guidance, and the substantial involvement of RMA to carry out these risk management initiatives. Applications requesting funding for the development of insurance products, plans of insurance, policies, modifications thereof or related materials are excluded from consideration under this announcement.

E. Definition of Priority Commodities

For purposes of this program, Priority Commodities are defined as:

• Agricultural commodities covered by (7 U.S.C. 7333). Commodities in this group are commercial crops that are not covered by catastrophic risk protection crop insurance, are used for food or fiber (except livestock), and specifically include, but are not limited to, floricultural, ornamental nursery, Christmas trees, turf grass sod, aquaculture (including ornamental fish), and industrial crops.

• Specialty crops. Commodities in this group may or may not be covered under a Federal crop insurance plan and include, but are not limited to, fruits, vegetables, tree nuts, syrups, honey, roots, herbs, and highly specialized varieties of traditional crops.

• Underserved commodities. This group includes: (a) commodities, including livestock, that are covered by a Federal crop insurance plan but for which participation in an area is below the national average; and (b) commodities, including livestock, with inadequate crop insurance coverage.

Part II—Eligibility/Funding

A. Eligible Applicants

Proposals are invited from qualified public and private entities. Eligible applicants include all colleges and universities, Federal, State, and local agencies, nonprofit and for-profit private organizations or corporations, and other entities. Individuals are not eligible applicants. Although an applicant may be eligible to compete for an award based on its status as an eligible entity, other factors may exclude an applicant from receiving Federal assistance under this program (e.g., debarment and suspension; a determination of non-performance on a prior contract, cooperative agreement, grant or partnership; a determination of a violation of applicable ethical standards).

B. Non-Financial Benefits

Applicants must be able to demonstrate they will receive non-financial benefits as a result of the partnership agreement. Non-financial benefits must accrue to the applicant and must include more than the ability to provide employment income to the applicant or for the applicant's employees or the community. The applicant must demonstrate that performance under the partnership agreement will further the specific mission of the applicant (such as providing research or activities necessary for graduate or other students to complete educational programs).

C. Project Period

Each project will be funded for a period of up to three years for the activities described in this announcement. Projects can also be in two parts with the first part including the research and feasibility studies and the second part including the development, implementation, delivery and maintenance of the risk management tool. If the development of the tool is determined not to be feasible, the partnership may be terminated by RMA after completion of the first part with funding reduced accordingly.

D. Availability of Funds

Approximately $4,000,000 is available in FY2003 to fund partnership agreements. There is no commitment by USDA/RMA to fund any particular project or to make a specific number of awards. Applicants awarded a partnership agreement for an amount that is less than the amount requested will be required to modify their application to conform to the reduced amount before execution of the partnership agreement. No maximum or minimum funding levels have been established for individual projects. It is expected that the awards will begin to be made on or about September 11, 2003. All awards will be made and agreements completed no later than September 30, 2003.

Partnership agreement funds may not be used to:

1. Plan, repair, rehabilitate, acquire, or construct a building or facility including a processing facility;

2. To purchase, rent, or install fixed equipment;

3. Repair or maintain privately owned vehicles;

4. Pay for the preparation of the partnership application;

5. Fund political activities;

6. Pay costs incurred prior to receiving this partnership agreement;

7. Fund any activities prohibited in 7 CFR parts 3015 and 3019, as applicable.

Part III—Research Program Description

In conducting activities to achieve the purpose of this proposed research, the recipient will be responsible for the activities listed under paragraph A of this part. RMA will be responsible for the activities listed under paragraph B of this part.

A. Recipient Activities

The applicant will be required to perform the following activities:

1. Finalize, in cooperation with RMA, the partnership agreement.

2. Define non-financial benefits and the substantial involvement of the RMA.

3. Coordinate, manage, document and implement the timely completion of the approved research and development activities.

4. Abide by the plans and provisions contained in the partnership agreement.

5. Report on program performance in accordance with OMB Circular A-102 and A-110.

6. The recipient may be required to make a presentation to the FCIC Board of Directors.

7. Adhere to RMA guidelines for systems development and information technology development.

8. In cooperation with RMA, determine the feasibility and if necessary collaborate in the development of a plan to administer, maintain, and update the risk management tool in the future.

B. RMA Activities

1. Collaborate on the research plan;

2. Advise the recipient on the materials available over the internet and through the RMA Web site (http://www.rma.usda.gov) and be involved in the gathering of any additional information that may be required;

3. Work with the recipient in all phases of the research and development of the risk management tool, and the educational efforts to enable producers to utilize the risk management tool; and

4. Collaborate with the recipient in the development of all materials associated with the research and development program as it relates to publication or presentation of the results and the risk management tools to the public, any producer groups, RMA, and the FCIC Board of Directors.

5. Collaborate with the recipient in the development of a proposal to administer, maintain and update the risk management tool in the future.

C. Other Activities

In addition to the specific activities listed above, the applicant may suggest other activities that would contribute directly to the purpose of this program. For any additional activity suggested, the applicant should identify the objective of the activity, the specific tasks required to meet the objective, specific time lines for performing the tasks, and specific responsibilities of the partners. For any additional activity suggested, the applicant should identify specific ways in which RMA could or should have substantial involvement in that activity.

Part IV—Preparation of an Application

A. Research Program Application Materials

Applicant may download an application package from the Risk Management Agency Web site at: http://www.rma.usda.gov. Applicants may also request an application package from: David W. Fulk, USDA, RMA/RED, 6501 Beacon Drive, Stop 0813, Kansas City, Missouri 64133-4676, phone: (816) 926-6343, fax: (816) 926-7343, e-mail: RMARED_Application@rma.usda.gov.

B. Content of Applications

A complete and valid application package must include an original, two paper copies, and one electronic copy (Microsoft Word format preferred) of the application package on diskette or compact disc, and:

1. A completed and signed OMB Standard Form 424, “Application for Federal Assistance”.

2. A completed and signed OMB Standard Form 424-A, “Budget Information—Non-construction Programs”. Reviewers will need sufficient information to effectively evaluate the budget. Indirect cost for projects submitted in response to this solicitation are limited to 10 percent of the total direct cost of the agreement. A sample budget narrative, including suggestions for format and content, is available on the RMA Web site (http://www.rma.usda.gov) or upon request.

3. A completed and signed OMB Standard Form 424-B—“Assurances, Non-construction Programs”.

4. Any narrative submitted with the application package should be limited to 10 single-sided pages. Reviewers will need sufficient information to effectively evaluate the application under the criteria contained in part V.B. A sample narrative, including suggestions for format and content, is available on the RMA Web site (http://www.rma.usda.gov) or upon request.

5. An appendix containing any attachments that may support information in the narrative (Optional).

6. A statement of the non-financial benefits of any partnership agreement to the recipient. (Refer to Part II.B “Non-financial Benefits”).

7. A completed and signed OMB Standard Form LLL, “Disclosure of Lobbying Activities.”

8. A completed and signed AD-1047, “Certification Regarding Debarment, Suspension and Other Responsibility Matters (Primary Covered Transactions.”)

9. A completed and signed AD-1049, “Certification Regarding Drug-Free Workplace.” Applicants are responsible for ensuring the application materials are received by the closing date. Incomplete application packages will not receive further consideration.

C. Submission of Applications

1. An original and two paper copies of the completed and signed application, and one electronic copy (Microsoft Word format preferred) on diskette or compact disc must be submitted in one package at the time of initial submission.

2. All applications must be submitted and received by the deadline. Applications that do not meet all of the requirements in this announcement are considered incomplete applications. Late or incomplete applications will not be considered in this competition and will be returned to the applicant.

3. Applicants submitted through express, overnight mail or another delivery service will be considered as meeting the announced deadline if they are received in the mailroom at the address stated above for express, overnight mail or another delivery service on or before the deadline. Applicants are cautioned that express, overnight mail or other delivery services do not always deliver as agreed. Applicants should take this into account because failure of such delivery services will not extend the deadline. The address must appear on the envelope or package containing the application with the note “Attention: RMA/RED Partnership Application.”

Mailed applications will be considered meeting the announced deadline if they are received on or before the deadline in the mailroom at the address stated above for mailed applications. Applicants are responsible for mailing applications well in advance, to ensure that applications are received on or before the deadline time and date. Applicants using the U.S. Postal Service should allow for the extra time for delivery due to the additional security measures that mail delivered to government offices in the Washington, DC area now requires.

4. RMA cannot accommodate transmissions of applications by facsimile or through other electronic media. Therefore, applications transmitted electronically will not be accepted regardless of the date or time of submission or the time of receipt.

5. The deadline for receipt of an application is 5 p.m. Central Daylight Time on July 28, 2003. The application deadline is firm as to date and hour and applies to submission of the original application and two copies.

D. Acknowledgement of Applications

Receipt of applications will be acknowledged by e-mail, whenever possible. Therefore, each applicant is encouraged to provide an e-mail address in the application. If an e-mail address is not indicated on an application, receipt will be acknowledged by letter. There will be no notification of incomplete, unqualified or unfunded applications until the awards have been made.

When received by RMA, applications will be assigned an identification number. This number will be communicated to applicants in the acknowledgement of receipt of applications. An application identification number should be referenced in all correspondence regarding the application. If the applicant does not receive an acknowledgement within 15 days of the submission deadline, the applicant should contact David Fulk at (816) 926-6343.

Part V—Review Process

A. General

Each application will be evaluated using a two-part process. First, each application will be screened by RMA personnel to ensure that it meets the objectives stated in part I.C and part IV. Applications that do not meet the objectives stated in part I.C and all other requirements in this announcement or are incomplete will not receive further consideration.

Second, a review panel will consider the merits of all applications that are complete and meet the objectives in part I.C and all other requirements in this announcement. The evaluation of each application will be conducted by a panel of not less than three independent reviewers. The panel will be comprised of representatives from USDA, other federal agencies, and others representing public and private organizations, as needed. The narrative and any appendixes provided by each applicant will be used by the review panel to evaluate the merits of the project that is being proposed for funding. The panel will examine and score applications based on the “Evaluation Criteria and Weights” contained in this paragraph B of this part.

All eligible applications will be evaluated using the criteria in part V.B.1. Applications must score at least 32 points under these criteria in order to be to be evaluated further. All applications scoring the required 32 points will be evaluated further under part V.B.2 through 5. After assigning points upon those criteria, applications will be listed in initial rank order and presented, along with funding level recommendations, to the Manager of FCIC, who will make the final decision on awarding of a partnership agreement. However, if the Manager of FCIC determines that any lower rated application is sufficiently similar to a project that has been funded or has been recommended to be funded under this announcement or any other research and development program, then the Manager may elect to not fund that application in whole or in part.

B. Evaluation Criteria and Weights

1. Research Objectives—Maximum 40 points

The application must receive a minimum score of 32 points under this criterion in order to be considered for further evaluation and funding. Applications receiving less than 32 points will be eliminated and will not be evaluated under criteria 2 through 5.

The proposal clearly defines the development, management and implementation of a risk management tool designed to meet the needs of the producers outlined in the objectives in part I.C. Proposals that best meet the objectives in part 1.C and are innovative, clear, concise, useful and easy to understand will be given the highest score.

2. Indication of RMA Involvement and Non-financial Benefits—Maximum 10 points

The proposal clearly indicates areas of substantial involvement by RMA and clearly indicates benefits derived from the partnership that extends beyond the financial benefits or funding of the research proposal. Those proposals that clearly outline the involvement of RMA in all aspects of the project and demonstrate non-financial benefit will receive the highest score. Examples of non-financial benefits would be the benefits derived by an educational institution by providing research opportunities to students or benefits derived through the furtherance of an organization's mission.

3. Research Approach, Methodology, Development and Implementation—Maximum 40 points

The proposal clearly demonstrates a sound research approach and defines the methodology to be used as well as describes the development and implementation of the risk management tool. Proposals that demonstrate a clear, concise and generally accepted research methodology and innovative approach will receive the highest number of points.

4. Management—Maximum 10 points

The proposal clearly demonstrates the applicant's ability and resources to coordinate and manage all aspects of the proposed research project. The applicant whose approach is the most cost effective and optimizes the use and effective application of the funding will receive the highest score.

5. Bonus Points—Maximum 35 points

Because sections 522(d) and 523 of the Act require RMA to give priority for risk management tools for specific producers or commodities, 15 bonus points are available for proposals that meet one or more of these priorities. The priorities are for projects that cover the Priority Commodities (defined in part I.E), and wild salmon.

Due to the administrative burden of administering these partnerships, the substantial involvement required and RMA's limited resources, 20 bonus points are available for proposals that have geographic diversity. Geographic diversity means multiple states or regions as defined by the National Agricultural Statistics Service and have the broadest number of producers impacted.

C. Confidentiality

The names of applicants, the names of individuals identified in the applications, the content of applications, and the panel evaluations of applications will all be kept confidential, except to those involved in the review process, to the extent permitted by law. In addition, the identities of review panel members will remain confidential throughout the entire review process and will not be released to applicants. At the end of the fiscal year, names of panel members will be made available. However, panelists will not be identified with the review of any particular application.

Part VI—Additional Information

A. Access to Panel Review Information

Upon written request, scores from the evaluation panel, not including the identity of reviewers, will be sent to the applicant after the review and awards process has been completed.

B. Notification of Partnership Agreement Awards and Notification of Non-Selection

Following approval of the applications selected for funding, notice of project approval and authority to draw down funds will be made to the selected applicants in writing. Within the limit of funds available for such purpose, the awarding official of RMA shall enter into partnership agreements with those applicants whose applications are judged to be most meritorious under the procedures set forth in this announcement. The partnership agreement provides the amount of Federal funds for use in the project period, the terms and conditions of the award, and the time period for the project.

The effective date of the partnership agreement shall be the date the agreement is executed by both parties. All funds provided to the applicant by FCIC must be expended solely for the purpose for which funds are obligated in accordance with the approved application and budget, the regulations, the terms and conditions of the award, and the applicability of Federal cost principles. No commitment of Federal assistance beyond the project period is made or implied, as a result of any award made pursuant to this announcement.

Notification of denial of funding will be sent to applicants after final funding decisions have been made. Reasons for denial of funding can include incomplete proposals, proposals that did not meet the objectives, scored low or were duplicative.

C. Confidential Aspects of Proposals and Awards

When an application results in a partnership agreement, it becomes a part of the official record of RMA transactions, available to the public upon specific request. Information that the Secretary of Agriculture determines to be of a confidential, privileged, or proprietary nature will be held in confidence to the extent permitted by law. Therefore, any information that the applicant wishes to be considered confidential, privileged, or proprietary should be clearly marked within the application, including the basis for such designation. The original copy of a proposal that does not result in an award will be retained by RMA for a period of one year. Other copies will be destroyed. Such a proposal will be released only with the express written consent of the applicant or to the extent required by law. A proposal may be withdrawn at any time prior to award.

D. Reporting Document

Applicants awarded a partnership agreement will be required to submit monthly progress and financial reports (SF-269) throughout the project period, as well as a final program and financial report not later than 90 days after the end of the project period.

E. Audit Requirements

Applicants awarded the partnership agreements are subject to audit.

F. Prohibitions and Requirements With Regard to Lobbying

Section 1352 of Public Law 101-121, enacted on October 23, 1989, imposes prohibitions and requirements for disclosure and certification related to lobbying on recipients of Federal contracts, grants, cooperative agreements, and loans. It provides exemptions for Indian Tribes and tribal organizations. Current and prospective recipients, and any subcontractors, are prohibited from using Federal funds, other than profits from a Federal contract, for lobbying Congress or any Federal agency in connection with the award of a contract, grant, cooperative agreement, or loan. In addition, for each award action in excess of $100,000 ($150,000 for loans) the law requires recipients and any subcontractors (1) to certify that they have neither used nor will use any appropriated funds for payments of lobbyists; (2) to disclose the name, address, payment details, and purpose of any agreements with lobbyists whom recipients or subcontractors will pay with profit or other nonappropriated funds on or after December 22, 1989; (3) to file quarterly updates about the use of lobbyists if material changes occur in their use. The law establishes civil penalties for non-compliance. A copy of the certification and disclosure forms must be submitted with the application and are available from David Fulk at the above stated address and telephone number.

G. Applicable OMB Circulars

All partnership and cooperative agreements funded as a result of this notice will be subject to the requirements contained in all applicable OMB circulars.

Signed in Washington, DC, on May 10, 2003.
Ross J. Davidson, Jr.,
Manager, Federal Crop Insurance Corporation.

[FR Doc. 03-14954 Filed 6-12-03; 8:45 am]

BILLING CODE 3410-08-M